GENERAL SERVICES ADMINISTRATION

[2011-MV-1; Docket No. 2011-0006; Sequence 4]

Public Availability of General Services Administration FY 2010 Service Contract Inventory

AGENCY: Office of Acquisition Policy; General Services Administration (GSA).

ACTION: Notice.

SUMMARY: This notice announces that GSA is announcing the availability of the FY 2010 Service Contract inventory.

DATES: Effective date: January 31, 2011.

FOR FURTHER INFORMATION CONTACT: Questions regarding the service contract inventory should be directed to Mr. Paul F. Boyle in the Office of Acquisition policy at (202) 501-0324 or paul.boyle@gsa.gov.

SUPPLEMENTARY INFORMATION: In accordance with Section 743 of Division C of the Consolidated Appropriations Act of 2010 (Pub. L. 111-117), GSA is publishing this notice to advise the public of the availability of the FY 2010 Service Contract Inventory. This inventory provides information on service contract actions over $25,000 that were conducted in FY 2010. The information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. GSA has posted its inventory and a summary of the inventory on the GSA homepage at the following link: http://www.gsa.gov/gsasci.

Dated: January 21, 2011.
Joseph A. Neurauter,
Director, Office of Acquisition Policy and Senior Procurement Executive.

[FR Doc. 2011-1652 Filed 1-28-11; 8:45 am]

BILLING CODE 6820-34-P